DEPARTMENT OF COMMERCE

National Oceanic and Atmospheric Administration

50 CFR Part 648

[Docket No.: 201214-0338; RTID 0648-XB615]

Fisheries of the Northeastern United States; Summer Flounder Fishery; Quota Transfers From VA to CT and NC to RI; Correction

AGENCY: National Marine Fisheries Service (NMFS), National Oceanic and Atmospheric Administration (NOAA), Commerce.

ACTION: Notification of quota transfer; correction.

SUMMARY: This action corrects an error in the calculation of the post-transfer quota for the State of North Carolina that published in the Federal Register on November 26, 2021.

DATES: Effective December 9, 2021.

FOR FURTHER INFORMATION CONTACT: Laura Hansen, Fishery Management Specialist, 978-281-9225.

SUPPLEMENTARY INFORMATION: On November 26, 2021, we published a notification of commercial summer flounder quota transfers. The Commonwealth of Virginia and the State of North Carolina transferred a portion of their 2021 commercial summer flounder quota to the States of Connecticut and Rhode Island, respectively (86 FR 67360). The notification included an error in the post-transfer revised commercial quota for the State of North Carolina. The revised quota for North Carolina after the 22,158 lb (10,051 kg) transfer to Rhode Island was incorrectly listed as 2,952,765 lb (1,339,352 kg) instead of 2,932,765 lb (1,330,280 kg). This correction notifies the public of the corrected revised commercial quota for the State of North Carolina.

Correction

In FR Doc. 2021-25839, beginning on page 67360 in the Federal Register of November 26, 2021, make the following correction. On page 67360, in the third column, “2,952,765 lb (1,339,352 kg)” is corrected to read “2,932,765 lb (1,330,280 kg)” in its place.

Authority: 16 U.S.C. 1801 et seq.

Dated: December 9, 2021.
Ngagne Jafnar Gueye,
Acting Director, Office of Sustainable Fisheries, National Marine Fisheries Service.

[FR Doc. 2021-27007 Filed 12-9-21; 4:15 pm]

BILLING CODE 3510-22-P